NUCLEAR REGULATORY COMMISSION

[Docket No. 50-285; NRC-2017-0099]

Omaha Public Power District; Fort Calhoun Station, Unit No. 1

AGENCY: Nuclear Regulatory Commission.

ACTION: Notice of receipt; availability; public meeting; and request for comment.

SUMMARY: On March 30, 2017, the U.S. Nuclear Regulatory Commission (NRC) received the Post-Shutdown Decommissioning Activities Report (PSDAR) and the Site Specific Decommissioning Cost Estimate (DCE), dated March 30, 2017, for the Fort Calhoun Station, Unit No. 1 (FCS). The PSDAR, which includes the DCE, provides an overview of Omaha Public Power District's (OPPD, or the licensee) planned decommissioning activities, schedule, projected costs, and environmental impacts for FCS. The NRC will hold a public meeting to discuss the PSDAR and DCE and receive comments.

DATES: Submit comments by July 7, 2017. Comments received after this date will be considered if it is practical to do so, but the NRC is able to ensure consideration only for comments received before this date.

ADDRESSES: You may submit comments by any of the following methods (unless this document describes a different method for submitting comments on a specific subject):

• Federal Rulemaking Web site: Go to http://www.regulations.gov and search for Docket ID NRC-2017-0099. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: James Kim, Office of Nuclear Reactor Regulation, U.S. Nuclear Regulatory Commission, Washington DC 20555-0001, telephone: 301-415-4125; email: James.Kim@nrc.gov.

SUPPLEMENTARY INFORMATION:

I. Obtaining Information and Submitting Comments

A. Obtaining Information

Please refer to Docket ID NRC-2017-0099 when contacting the NRC about the availability of information for this action. You may obtain publicly-available information related to this action by any of the following methods:

• Federal Rulemaking Web site: Go to http://www.regulations.gov and search for Docket ID NRC-2017-0099.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that document is mentioned in this document.

• NRC's PDR: You may examine and purchase copies of public documents at the NRC's PDR, Room O1-F21, One White Flint North, 11555 Rockville Pike, Rockville, Maryland 20852.

B. Submitting Comments

Please include Docket ID NRC-2017-0099 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Omaha Public Power District is the holder of Renewed Facility Operating License No. DPR-40 for FCS. The license provides, among other things, that the facility is subject to all rules, regulations, and orders of the NRC now or hereafter in effect. The facility consists of one pressurized-water reactor located in Washington County, Nebraska. By letter dated August 25, 2016 (ADAMS Accession No. ML16242A127), OPPD submitted a certification to the NRC indicating it would permanently cease power operations at FCS on October 24, 2016. On October 24, 2016, OPPD permanently ceased power operation at FCS. On November 13, 2016 (ADAMS Accession No. ML16319A254), OPPD certified that it had permanently defueled the FCS reactor vessel.

On March 30, 2017, OPPD submitted the PSDAR and DCE for FCS in accordance with § 50.82(a)(4)(i) of title 10 of the Code of Federal Regulations (ADAMS Accession No. ML17089A759). The PSDAR includes a description of the planned decommissioning activities, a proposed schedule for their accomplishment, the site-specific DCE (submitted concurrently), and a discussion that provides the basis for concluding that the environmental impacts associated with the site-specific decommissioning activities will be bounded by appropriate, previously issued generic and plant-specific environmental impact statements.

III. Request for Comment and Public Meeting

The NRC is requesting public comments on the PSDAR and DCE for FCS. The NRC will conduct a public meeting to discuss the PSDAR and DCE and receive comments on Wednesday, May 31, 2017, from 6 p.m. until 9 p.m., CDT, at the Double Tree Hotel, 1616 Dodge Street, Omaha, Nebraska 68102. The NRC requests that comments that are not provided during the meeting be submitted as noted in section I., “Obtaining Information and Submitting Comments” of this document in writing by July 7, 2017.

Dated at Rockville, Maryland, this 7th day of April 2017.
For the Nuclear Regulatory Commission.
Douglas A. Broaddus,
Chief, Special Projects and Process Branch, Division of Operating Reactor Licensing, Office of Nuclear Reactor Regulation.

[FR Doc. 2017-07603 Filed 4-13-17; 8:45 am]

BILLING CODE 7590-01-P